DEPARTMENT OF EDUCATION

State Flexibility Program

AGENDA: Office of Elementary and Secondary Education, Department of Education.

ACTION: Notice amending eligibility requirements and extending application deadline.

SUMMARY: Under the State Flexibility (“State-Flex”) Program, the Secretary will competitively grant State-Flex authority to up to seven State educational agencies (SEAs), permitting them to (1) consolidate certain Federal education funds that are provided for State-level activities and State administration and use those funds for any educational purpose authorized under the Elementary and Secondary Education Act (ESEA) in order to meet the State's definition of adequate yearly progress (AYP) and advance the education priorities of the State and its local educational agencies (LEAs); and (2) specify how LEAs in the State will use funds allocated under section 5112(a) (State Grants for Innovative Programs) of the ESEA. In addition, an SEA with State-Flex authority must enter into performance agreements with at least four, but no more than ten, LEAs (at least half of which must be high-poverty LEAs), giving those LEAs the flexibility to consolidate certain Federal education funds and to use those funds for any educational purpose permitted under the ESEA in order to meet the State's definition of AYP and specific, measurable goals for improving student achievement and narrowing achievement gaps.

In this notice, we are (1) amending the State-Flex eligibility requirements consistent with the recently announced requirements for submission of accountability plans under Title I of the ESEA and (2) extending the deadline for eligible SEAs to apply to participate in the State-Flex program.

Application Deadline: February 28, 2003.

Eligible Applicants: To be eligible to participate in this State-Flex competition, an SEA must have submitted, by January 31, 2003, its accountability workbook under Title I of the ESEA.

SUPPLEMENTARY INFORMATION: On October 11, 2002, we published in the Federal Register a notice inviting applications for State flexibility authority (67 FR 63,394-63,395) and a notice of final application requirements, selection criteria, and competition schedule (67 FR 63,390-63,394). At that time, we established a State-Flex application deadline of January 17, 2003 and indicated that to be eligible to apply, an SEA had to either have its AYP definition approved by the Department or submit an assurance that it would provide the Department with a State AYP definition that meets the requirements of section 1111(b)(2) of the ESEA by the AYP deadline established by the Department.

Subsequent to announcing the initial State-Flex competition, the Department published final accountability regulations under Title I and sent to all States an accountability workbook to assist them in submitting their accountability plans for peer review and approval. Because the primary purpose of the State-Flex program is to assist States and affected LEAs in meeting the State's definition of AYP under Title I, in this notice, the Department is amending the State-Flex eligibility requirements to reflect the recently announced steps that States must take to comply with Title I accountability requirements.

Under Title I, States must submit their completed accountability workbook to the Department by January 31, 2003. The workbook will document how respective elements that are required for approval are met by existing State policy, or will be met through a proposed State policy. For each proposed policy that a State lists in its workbook, the State must include a dateline demonstrating the steps that it will take to adopt the policy prior to the May 1, 2003 deadline for final submission of State accountability plans.

Thus, to be eligible to participate in the State-Flex program, a State must have submitted the completed workbook by the deadline established by the Department under Title I.

The Secretary intends to select up to four SEAs for participation in State-Flex in this initial competition. In conducting the competition, the Department will review the quality of State-Flex plans, including the quality of the local performance agreements that are submitted as part of those plans, on the basis of the selection criteria announced in the October 11, 2002 Federal Register notice (67 FR 63,390-63,394). If an SEA selected for State-Flex authority has not yet received final approval of its accountability system as required under Title I, that SEA will receive conditional State-Flex authority. An SEA with conditional State-Flex authority will not be able to exercise its State-Flex authority or implement any portion of its State-Flex plan (including the local performance agreements) unless the Department fully approves the SEA's accountability system by the deadline established under Title I.

The Department will select the additional State-Flex SEAs in a subsequent competition.

FOR FURTHER INFORMATION CONTACT: Ms. Milagros Lanauze. Telephone: (202) 401-0039 or via Internet: StateFlex@ed.gov.

If you use a telecommunications device for the deaf (TDD), you may call the Federal Information Relay Service (FIRS) at 1-800-877-8339. Individuals with disabilities may obtain this notice in an alternative format (e.g., Braille, large print, audiotape, or computer diskette) on request to the contact person listed above.

APPLICATIONS: You may obtain a copy of the application on the Department's Web site at: http://www.ed.gov/GrantApps/#stateflex.

You may also obtain a copy of the application from the contact person identified under FOR FURTHER INFORMATION CONTACT.

Electronic Access to This Document

You may view this document, as well as other Department of Education documents published in the Federal Register in text or Adobe Portable Document Format (PDF) on the Internet at the following site: http://www.ed.gov/legislation/FedRegister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO access at: http://www.access.gpo.gov/nara/index.html.

Program Authority: Sections 6141 through 6144 of the ESEA, as amended by the No Child Left Behind Act of 2001 (P.L. 107-110).

Dated: January 16, 2003.
Eugene W. Hickok,
Under Secretary.

[FR Doc. 03-1373 Filed 1-16-03; 2:22 pm]

BILLING CODE 4000-01-P